FEDERAL RETIREMENT THRIFT INVESTMENT BOARD

5 CFR Part 1600

Employee Contribution Elections and Contribution Allocations

AGENCY: Federal Retirement Thrift Investment Board.

ACTION: Interim final rule with request for comments.

SUMMARY: The Federal Retirement Thrift Investment Board (Agency) is announcing the effective date of its regulation published on June 19, 2009 (74 FR 29111) pertaining to the timing of agency contributions.

DATES: Effective Date: The Agency's interim final rule published on June 19, 2009 (74 FR 29111) took effect on June 22, 2009 when President Obama signed HR 1256 (Pub. L. 111-31) which contained the Thrift Savings Plan Enhancement Act of 2009 (Act).

FOR FURTHER INFORMATION CONTACT: Laurissa Stokes at (202) 942-1645.

SUPPLEMENTARY INFORMATION: The Act provides that Agency Automatic (1%) Contributions and Agency Matching Contributions shall commence immediately. The regulatory amendment is necessary because FRTIB regulations follow current law, which provides that Agency Automatic (1%) Contributions and Agency Matching Contributions shall not commence until the equivalent of the second open season that begins after the employee commenced employment. The FRTIB is setting a August 1, 2009 effective date for this regulation to allow employing agencies sufficient time to make the necessary computer programming changes to implement it. The regulation took effect on June 22, 2009, and employing agencies must implement this change as soon as practicable but no later than the first pay period in August.

Gregory T. Long,
Executive Director, Federal Retirement Thrift Investment Board.

[FR Doc. E9-15536 Filed 6-30-09; 8:45 am]

BILLING CODE 6760-01-P